DEPARTMENT OF THE INTERIOR

National Park Service

[NPS-WASO-NAGPRA-NPS0036308; PPWOCRADN0-PCU00RP14.R50000]

Notice of Inventory Completion: University of Rhode Island, South Kingstown, RI, and Connecticut College, New London, CT

AGENCY: National Park Service, Interior.

ACTION: Notice.

SUMMARY: In accordance with the Native American Graves Protection and Repatriation Act (NAGPRA), the University of Rhode Island (URI) and Connecticut College (CC) have completed an inventory of human remains and have determined that there is a cultural affiliation between the human remains and Indian Tribes or Native Hawaiian organizations in this notice. The human remains were removed from New London County, CT.

DATES: Repatriation of the human remains in this notice may occur on or after September 5, 2023.

FOR FURTHER INFORMATION CONTACT: Fiona Jones, URI, 232 Chafee Hall, Kingston, RI 02881, email fionaj@uri.edu; and Kristine Bovy, URI, 508 Chafee Hall, Kingston, RI 02881, telephone (401) 874-4143, email kbovy@uri.edu.

SUPPLEMENTARY INFORMATION: This notice is published as part of the National Park Service's administrative responsibilities under NAGPRA. The determinations in this notice are the sole responsibility of the URI and CC. The National Park Service is not responsible for the determinations in this notice. Additional information on the determinations in this notice, including the results of consultation, can be found in the inventory or related records held by URI and CC.

Description

Human remains representing, at minimum, one individual were removed from New London County, CT. In March of 1981, during the construction of a soccer field on the campus of Connecticut College, New London, CT, an excavating bulldozer exposed and partly damaged the burial of one individual interred in a substantial shell midden. Dr. Harold Juli, then professor of archeology at Connecticut College, conducted a salvage excavation and recovery of the individual. Dr. Marc Kelley, professor of biological anthropology at URI, was asked to collaborate in osteological research on the recovered individual. The human remains were subsequently transferred to URI. In published reports, this individual is determined to be of Native American descent based on dental morphology, as well as the context of the burial. Fragments of unidentified bone were collected for radiocarbon dating. The results concluded a time range of A.D. 1620±70. There are no associated funerary objects present. (A “broken sandstone blade fragment” was noted during excavation, but the object is not in the possession of URI and there is no record of this object ever being transferred to the University; nor is the object in the possession of CC.) URI was not in possession of any relevant documentation, such as geographic context and excavation information; this information was supplied by CC in 2022.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and expert opinion.

Determinations

Pursuant to NAGPRA and its implementing regulations, and after consultation with the appropriate Indian Tribes and Native Hawaiian organizations, URI and CC have determined that:

• The human remains described in this notice represent the physical remains of one individual of Native American ancestry.

• There is a relationship of shared group identity that can be reasonably traced between the human remains described in this notice and the Mashantucket Pequot Indian Tribe and the Mohegan Tribe of Indians of Connecticut.

Requests for Repatriation

Written requests for repatriation of the human remains in this notice must be sent to the Responsible Official identified in FOR FURTHER INFORMATION CONTACT. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after September 5, 2023. If competing requests for repatriation are received, URI and CC must determine the most appropriate requestor prior to repatriation. Requests for joint repatriation of the human remains are considered a single request and not competing requests. URI and CC is responsible for sending a copy of this notice to the Indian Tribes identified in this notice.

Authority: Native American Graves Protection and Repatriation Act, 25 U.S.C. 3003, and the implementing regulations, 43 CFR 10.9, 10.10, and 10.14.

Dated: July 26, 2023.
Melanie O'Brien,
Manager, National NAGPRA Program.

[FR Doc. 2023-16487 Filed 8-2-23; 8:45 am]

BILLING CODE 4312-52-P